NATIONAL SCIENCE FOUNDATION

Oversight Council for the International Arctic Research Center; Notice of Meeting

In accordance with Federal Advisory Committee Act (Pub. L. 92-463, as amended), the National Science Foundation announces the following meeting:

Name: Oversight Council for the International Arctic Research Center (9535).

Date/Time: October 11, 2000, 9 a.m. to 5 p.m.

Place: International Arctic Research Center, Room 401, 930 Koyukuk Drive, University of Alaska Fairbanks, Fairbanks, AK 99775-7340.

Type of Meeting: Closed.

Contact Person: Charles Myers, National Science Foundation, 4201 Wilson Blvd., Suite 755. Telephone: (703) 292-7434.

Purpose of Meeting: To provide advice and recommendations concerning further support for the International Arctic Research Center (IARC).

Agenda: To review and evaluate the current and proposed activities of the IARC.

Reason for Closing: The information being reviewed includes information of a proprietary or confidential nature, including technical information; financial data, such as salaries; and personal information concerning individuals associated with the IARC. These matters are exempt under 5 U.S.C. 552b(c), (4), and (6) of the Government in the Sunshine Act.

Dated: September 13, 2000.
Karen J. York,
Committee Management Officer.

[FR Doc. 00-23895 Filed 9-15-00; 8:45 am]

BILLING CODE 7555-01-M